FEDERAL COMMUNICATIONS COMMISSION

47 CFR Chapter I

[CC Docket No. 94-54; FCC 00-253]

CMRS Interconnection and Resale Obligations

AGENCY: Federal Communications Commission.

ACTION: Proposed rule; denial.

SUMMARY: This document considers whether facilities-based commercial mobile radio service (CMRS) providers should be required to interconnect with CMRS resellers' switches or with each others' networks. Specifically, the Commission denies requests for mandatory interconnection between resellers' switches and CMRS providers' networks. This action is taken to resolves issues raised in the Second Notice of Proposed Rulemaking in this proceeding concerning whether facilities-based commercial mobile radio service (CMRS) providers should be required to interconnect with CMRS resellers' switches or with each others' networks.

FOR FURTHER INFORMATION CONTACT: Peter Wolfe, 202-418-1310.

SUPPLEMENTARY INFORMATION: This is a summary of the Commission's Fourth Report and Order (Fourth R&O) in CC Docket No. 94-54; FCC 00-253, adopted July 20, 2000, and released July 24, 2000. The complete text of this Fourth R&O is available for inspection and copying during normal business hours in the FCC Reference Information Center, Courtyard Level, 445 12th Street, SW., Washington, DC, and also may be purchased from the Commission's copy contractor, International Transcription Services (ITS, Inc.), CY-B400, 445 12th Street, SW., Washington, DC.

Synopsis of the Fourth R&O

1. The Commission, in this Fourth R&O resolves issues raised in 1995 in the Second Notice of Proposed Rulemaking (NPRM) in this proceeding (60 FR 20949, April 28, 1995) concerning whether facilities-based commercial mobile radio service (CMRS) providers should be required to interconnect with CMRS resellers' switches or with each others' networks. Specifically, the Commission adopts its tentative conclusion in the NPRM and denies requests for mandatory interconnection between resellers' switches and CMRS providers' networks. In the absence of any specific State interconnection requests pending before the Commission, we also decline to take action preempting state requirements. Finally, the Commission adopts it's tentative conclusion in the NPRM and decline to impose general interconnection obligations between the networks of facilities-based CMRS providers. Consistent with the interconnection provisions of the 1996 Telecommunications Act, as interpreted in the First Report and Order in CC Dockets No. 96-98 and 95-185 (61 FR 45476, August 29, 1996), the Commission concludes generally that efficient CMRS interconnection will be achieved between facilities-based CMRS providers through voluntary agreements.

Ordering Clauses

2. Accordingly, the Cellular Service Inc. and ComTech Mobile Telephone Company request for a policy statement recognizing the right of resellers to interconnection is denied.

3. This proceeding is terminated.

Federal Communications Commission.
Magalie Roman Salas,
Secretary.

[FR Doc. 00-20522 Filed 8-11-00; 8:45 am]

BILLING CODE 6712-01-P